ENVIRONMENTAL PROTECTION AGENCY

[ER-FRL-6664-7]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 1, 2005 (70 FR 16815).

Draft EISs

EIS No. 20050157, ERP No. D-AFS-J65441-MT, Middle East Fork Hazardous Fuel Reduction Project, Implementation of Three Alternatives, Bitterroot National Forest, Sula Ranger District, Ravalli County, MT.

Summary

EPA supports the proposed action, but expressed environmental concerns about increased sediment loads and consistency with the restoration strategy in the draft Bitterroot Headwaters TMDL. EPA recommended additional watershed restoration measures such as road decommissioning and other mitigation to reduce these impacts.

Rating EC2

EIS No. 20050162, ERP No. D-CGD-G03027-00, Pearl Crossing Liquefied Natural Gas (LNG) Deepwater Port Terminal and Pipeline Project, Proposes to Construct a Liquefied Natural Gas (LNG) Receiving, Storage, and Regasification Facility, Gulf of Mexico, Cameron and Calcasieu Parishes, LA and San Patricio County, TX.

Summary

EPA expressed objections to the open rack re-gasification system due to adverse environmental impacts to Gulf waters and habitat. EPA believes that these impacts can be corrected by the project modifications or other feasible technology, and requested additional information to evaluate and resolve the outstanding issues.

Rating EO2

EIS No. 20050166, ERP No. D-AFS-K65281-CA, Brown Project, Proposal to Improve Forest Health by Reducing Overcrowded Forest Stand Conditions, Trinity River Management Unit, Shasta-Trinity National Forest, Weaverville Ranger District, Trinity County, CA.

Summary

EPA expressed environmental concerns about the proposed alternative and impacts to water quality, old-growth and late-successional forest, and soil erosion, and requested additional information on consultation for effects to fisheries and impacts to air quality.

Rating EC2

EIS No. 20050196, ERP No. D-NPS-J61106-UT, Burr Trail Modification Project, Proposed Road Modification within Capitol Reef National Park, Garfield County, UT.

Summary

EPA has no objections to the preferred alternative.

Rating LO.

EIS No. 20050179, ERP No. DS-AFS-J65419-MT, Gallatin National Forest, Updated Information, Main Boulder Fuels Reduction Project, Implementation, Gallatin National Forest, Big Timber Ranger District, Big Timber, Sweetgrass and Park Counties, MT.

Summary

The Supplemental DEIS has addressed impacts to the northern goshawk, the issue of fire risk, and increased public and firefighter safety. EPA continues to have environmental concerns about potential effects on water quality, fisheries and riparian functions and habitats and recommends the Final EIS include mitigation measures to address these impacts.

Rating EC2.

Final EISs

EIS No. 20050145, ERP No. F-FHW-H40178-MO, I-64/US 40 Corridor, Reconstruction of the Existing 1-64/US 40 Facility with New Interchange Configurations and Roadway, Funding, City of St. Louis, St. Louis County, MO.

Summary

EPA's previous issues were resolved; therefore, EPA has no objection to the proposed action.

EIS No. 20050169, ERP No. F-BLM-J65413-MT, Dillon Resource Management Plan, Provide Direction for Managing Public Lands within the Dillion Field Office, Implementation, Beaverheard and Madison Counties, MT.

Summary

The Final EIS addressed most of EPA's concerns while balancing multiple use objectives with protection, restoration, and enhancement of resources. However, we continue to recommend additional management direction to protect water quality, fisheries and riparian habitat and restore watershed functions.

EIS No. 20050170, ERP No. F-DOE-K06007-CA, Site-wide Continued Operation of Lawrence Livermore National Laboratory (LLNL) and Stockpile Stewardship and Management, Implementation, Alameda and San Joaquin Counties, CA.

Summary

EPA previous issues have been adequately addressed; therefore, EPA has no objection to the action as proposed.

EIS No. 20050178, ERP No. F-FHW-G40173-LA, I-49 South Lafayette Regional Airport to LA-88 Route US-90 Project, Upgrading Existing US-90 from the Lafayette Regional Airport to LA-88, Funding, Iberia, Lafayette and St. Martin Parishes, LA.

Summary

No formal comment letter was sent to the preparing agency.

EIS No. 20050218, ERP No. F-NPS-L61227-OR, Crater Lake National Park General Management Plan, Implementation, Klamath, Jackson and Douglas Counties, OR.

Summary

No formal letter was sent to the preparing agency.

Dated: June 21, 2005.
Robert W. Hargrove,
Director, NEPA Compliance Division, Office of Federal Activities.

[FR Doc. 05-12555 Filed 6-23-05; 8:45 am]

BILLING CODE 6560-50-P